DEPARTMENT OF HEALTH AND HUMAN SERVICES

Determination That a Demonstration Needle Exchange Program Would be Effective in Reducing Drug Abuse and the Risk of Acquired Immune Deficiency Syndrome Infection Among Intravenous Drug Users

AGENCY: Office of the Secretary, Department of Health and Human Services.

ACTION: Notice.

SUMMARY: The Surgeon General of the United States Public Health Service, VADM Regina Benjamin, M.D., M.B.A., has determined that a demonstration needle exchange program (or more appropriately called syringe services program or SSP) would be effective in reducing drug abuse and the risk of infection with the etiologic agent for acquired immune deficiency syndrome. This determination reflects the scientific evidence supporting the important public health benefit of SSPs, and is necessary to meet the statutory requirement permitting the expenditure of Substance Abuse Prevention and Treatment (SAPT) Block Grant funds for SSPs.

FOR FURTHER INFORMATION CONTACT: Substance Abuse and Mental Health Services Administration (SAMHSA), 1 Choke Cherry Road, Rockville, Maryland, attention John Campbell, 240-276-2891.

SUPPLEMENTARY INFORMATION: The U.S. Department of Health and Human Services' Substance Abuse and Mental Health Services Administration administers the SAPT Block Grant authorized in section 1921 of Title XIX, Part B, Subpart II of the Public Health Service (PHS) Act (42 U.S.C. 300x-21). Section 1931(a)(1)(F) of Title XIX, Part B, Subpart II of the PHS Act (42 U.S.C. 300x-31(a)(1)(F)) prohibits the expenditure of SAPT Block Grant funds to “* * * carry out any program prohibited by section 256(b) of the Health Omnibus Programs Extension Act of 1988” (42 U.S.C. 300ee-5). Section 256(b) prohibits the use of “* * * funds provided under this Act or an amendment made by this Act…to provide individuals with hypodermic needles or syringes * * * unless the Surgeon General of the Public Health Service determines that a demonstration needle exchange program would be effective in reducing drug abuse and the risk that the public will become infected with the etiologic agent for acquired immune deficiency syndrome.”

SSPs are widely considered to be an effective way of reducing HIV transmission among individuals who inject illicit drugs and there is ample evidence that SSPs also promote entry and retention into treatment (Hagan, McGough, Thiede, et al., 2000, Journal of Substance Abuse Treatment, 19, 247-252). According to research that tracks individuals in treatment over extended periods of time, most people who get into and remain in treatment can reduce or stop using illegal or dangerous drugs. In addition to promoting entry to treatment, there are studies that document injection reductions for drug users who participate in SSPs. Hagan, et al., found that, not only were new SSP participants five times more likely to enter drug treatment than non-SSP participants, former SSP participants were more likely to report significant reduction in injection, to stop injecting altogether, and to remain in drug treatment. A summary of the research on SSPs is available at http://www.samhsa.gov/ssp.

The Surgeon General of the United States Public Health Service has therefore determined that a demonstration syringe services program would be effective in reducing drug abuse and the risk that the public will become infected with the etiologic agent for acquired immune deficiency syndrome. The Department of Health and Human Services plans to issue guidelines regarding implementation requirements for SSPs based on this determination.

Dated: February 17, 2011.
Kathleen Sebelius,
Secretary.

[FR Doc. 2011-3990 Filed 2-18-11; 4:15 pm]

BILLING CODE 4150-28-P